DEPARTMENT OF THE INTERIOR

Bureau of Land Management

[ID-130-1430-EU; DB-G08-1003; IDI-8665, IDI-20345, IDI-20495]

Termination of Desert Land Entry and Carey Act Classifications

AGENCY: Bureau of Land Management, Interior.

ACTION: Notice.

SUMMARY: This notice terminates Desert Land Entry and Carey Act Classifications on 120 acres of land in Owyhee County as these classifications are no longer needed. A portion of these lands will be exchanged pursuant to section 206 of the Federal Land Policy and Management Act of 1976.

DATES: Effective Date: October 19, 2007.

FOR FURTHER INFORMATION CONTACT: Kelley Moore, BLM, Owyhee Field Office, 20 1st Avenue West, Marsing, Idaho 83639, 208-896-5917.

SUPPLEMENTARY INFORMATION: On December 5, 1984, and December 23, 1985, the lands listed below were classified as either suitable or unsuitable for entry under the authority of the Desert Land Act of March 3, 1877, as amended and supplemented (43 U.S.C. 321, et seq.) and the Carey Act of August 18, 1894, as amended (43 U.S.C. 641 et seq.). The classifications on the following described lands are hereby terminated:

Serial No. | Classification | Township | Range | Section | Subdivision
IDI-8665 | Non-Suitable | 2 N | 4 W | 20 | W½SE¼SE¼.
IDI-20345 | Suitable | 2 N | 4 W | 32 | NE¼NE¼ (now Lot 1).
IDI-20495 | Suitable | 2 N | 4 W | 20 | NW¼SE¼.
IDI-20495 | Non-Suitable | 2 N | 4 W | 29 | S½NW¼SE¼ (now Lot 1).

At 9 a.m. on October 19, 2007 the Desert Land Entry and Carey Act classifications identified above will be terminated. No opening order is required as these lands have been segregated from appropriation under the public land laws, including the mining laws, except the sale provisions of the Federal Land Policy and Management Act (FLPMA).

Dated: October 15, 2007.
Mark A. Lane,
Owyhee Field Manager.

[FR Doc. E7-20654 Filed 10-18-07; 8:45 am]

BILLING CODE 4310-GG-P